DEPARTMENT OF HEALTH AND HUMAN SERVICES

Food and Drug Administration

Oncologic Drugs Advisory Committee; Amendment of Notice

AGENCY: Food and Drug Administration, HHS.

ACTION: Notice.

SUMMARY: The Food and Drug Administration (FDA) is announcing an amendment to the notice of meeting of the Oncologic Drugs Advisory Committee. This meeting was announced in the Federal Register of November 18, 2003 (68 FR 65076-65077). The amendment is being made to reflect a change in the Location portion of the document. There are no other changes.

FOR FURTHER INFORMATION CONTACT: Johanna Clifford, Center for Drug Evaluation and Research (HFD-21), Food and Drug Administration, 5600 Fishers Lane, Rockville, MD 20857, or by express delivery to: 5630 Fishers Lane, rm. 1093, Rockville, MD 20852, 301-827-7001, or FDA Advisory Committee Information Line, 1-800-741-8138 (301-443-0572 in the Washington, DC area), code 3014512542. Please call the Information Line for up-to-date information on this meeting.

SUPPLEMENTARY INFORMATION: In the Federal Register of November 18, 2003 (68 FR 65076-65077), FDA announced that a meeting of the Oncologic Drugs Advisory Committee would be held on December 16, 2003. On page 65077, in the first column, the Location portion of the meeting is amended to read as follows:

Location: CDER Advisory Committee conference rm. 1066, 5630 Fishers Lane, Rockville, MD.

This notice is issued under the Federal Advisory Committee Act (5 U.S.C. app. 2) and 21 CFR part 14, relating to advisory committees.

Dated: December 3, 2003.
William K. Hubbard,
Associate Commissioner for Policy and Planning.

[FR Doc. 03-30436 Filed 12-8-03; 8:45 am]

BILLING CODE 4160-01-S